DEPARTMENT OF COMMERCE

International Trade Administration

Civil Nuclear Energy Export Opportunity Seminar

AGENCY: ITA, DOC.

ACTION: Notice of Civil Nuclear Energy Export Opportunity Seminar.

SUMMARY: This notice sets forth the proposed agenda for a Civil Nuclear Energy Export Opportunity Seminar.

DATES: The meeting is scheduled for Thursday, June 18, 2015, at 1:00 p.m. Eastern Daylight Time (EDT).

ADDRESSES: The meeting will be held at Westinghouse Electric Company (1000 Westinghouse Drive, Cranberry Township, PA, 16066).

FOR FURTHER INFORMATION CONTACT: Mr. Jonathan Chesebro, Office of Energy & Environmental Industries, ITA, Room 4053, 1401 Constitution Ave. NW., Washington, DC 20230. (Phone: 202-482-1297; Fax: 202-482-5665; email: jonathan.chesebro@trade.gov).

SUPPLEMENTARY INFORMATION: Background: Hosted by the U.S. Department of Energy, National Nuclear Security Administration (NNSA), the purpose of this event is to provide a forum for U.S. Government (USG) officials to brief companies on recent developments in U.S. civil nuclear export controls, 123 Agreements for Peaceful Nuclear Cooperation, and export market opportunities. There will also be a Question and Answer session after each topic. This is an opportunity to hear from USG experts on these topics to get information on U.S. civil nuclear export opportunities. Additional Export Opportunity Seminars will be scheduled in Charlotte, NC and Washington, DC in July.

Topics to be considered: The agenda for the Thursday, June 18, 2015 Civil Nuclear Energy Export Opportunity Seminar is as follows:

1:00 p.m.-5:00 p.m.

1:00-1:15—Introduction—USG Support for the U.S. Civil Nuclear Industry

1:15-1:45—123 Agreements for Peaceful Nuclear Cooperation

Jim Warden—Office of Nuclear Energy, Safety & Security—U.S. Department of State

1:45-2:30—Part 810 Export Control Rule

Rich Goorevich/Katie Strangis/Jason Greenfeld—U.S. Department of Energy, National Nuclear Security Administration (NNSA)

2:30-3:00—Part 110 Export Control Rule

Brooke Smith—Chief, Export Controls & Nonproliferation Branch, Nuclear Regulatory Commission (NRC)

3:00-3:30—Export Administration Regulations

Steven Clagett—Director, Nuclear and Missile Technology Division, Bureau of Industry and Security (BIS), U.S. Department of Commerce

3:30-4:00—Demonstration of Part 810 e-licensing system (e810)

4:00-5:00—Question & Answer Session

The meeting will be disabled-accessible. Seating is limited and available on a first-come, first-served basis.

How To RSVP

Email your name, title, and organization to jonathan.chesebro@trade.gov by 5:00 p.m. EDT on Tuesday June 16. The event is free but space is limited.

Edward A. O'Malley,
Director, Office of Energy and Environmental Industries.

[FR Doc. 2015-13416 Filed 6-2-15; 8:45 am]

BILLING CODE 3510-DR-P